DEPARTMENT OF ENERGY

Federal Energy Regulatory Commission

Combined Notice of Filings #1

Take notice that the Commission received the following electric rate filings:

Docket Numbers: ER22-2550-001.

Applicants: Midway-Sunset Cogeneration Company.

Description: Project Daily Surcharge Payment True-Up Report of Midway Sunset Cogeneration Company.

Filed Date: 11/30/23.

Accession Number: 20231130-5390.

Comment Date: 5 p.m. ET 1/4/24.

Docket Numbers: ER24-201-000.

Applicants: Karbone Energy LLC.

Description: Report Filing: Karbone Energy LLC Supplemental MBR Filing to be effective N/A.

Filed Date: 12/14/23.

Accession Number: 20231214-5116.

Comment Date: 5 p.m. ET 12/26/23.

Docket Numbers: ER24-646-000.

Applicants: Wisconsin Electric Power Company.

Description: Petition for Limited Waiver of Wisconsin Electric Power Company.

Filed Date: 12/13/23.

Accession Number: 20231213-5139.

Comment Date: 5 p.m. ET 1/3/24.

Docket Numbers: ER24-658-000.

Applicants: Southwest Power Pool, Inc.

Description: § 205(d) Rate Filing: 4189 CED Burt County Wind GIA to be effective 11/29/2023.

Filed Date: 12/14/23.

Accession Number: 20231214-5059.

Comment Date: 5 p.m. ET 1/4/24.

Docket Numbers: ER24-659-000.

Applicants: Southwest Power Pool, Inc.

Description: § 205(d) Rate Filing: 4195 NextEra Energy Resources Surplus Interconnection GIA to be effective 2/12/2024.

Filed Date: 12/14/23.

Accession Number: 20231214-5064.

Comment Date: 5 p.m. ET 1/4/24.

Docket Numbers: ER24-660-000.

Applicants: Southwest Power Pool, Inc.

Description: § 205(d) Rate Filing: 4196 NextEra Energy Resources Surplus Interconnection GIA to be effective 2/12/2024.

Filed Date: 12/14/23.

Accession Number: 20231214-5069.

Comment Date: 5 p.m. ET 1/4/24.

Docket Numbers: ER24-661-000.

Applicants: ISO New England Inc., New England Power Pool Participants Committee.

Description: § 205(d) Rate Filing: ISO New England Inc. submits tariff filing per 35.13(a)(2)(iii: Revisions to Update to FCM Delivery Financial Assurance Calculation in the FAP to be effective 3/1/2024.

Filed Date: 12/14/23.

Accession Number: 20231214-5071.

Comment Date: 5 p.m. ET 1/4/24.

Docket Numbers: ER24-662-000.

Applicants: SR Bell Buckle, LLC.

Description: § 205(d) Rate Filing: Revised Market-Based Tariff to be effective 12/15/2023.

Filed Date: 12/14/23.

Accession Number: 20231214-5141.

Comment Date: 5 p.m. ET 1/4/24.

Docket Numbers: ER24-663-000.

Applicants: SR Canadaville Lessee, LLC.

Description: § 205(d) Rate Filing: Revised Market-Based Rate Tariff to be effective 12/15/2023.

Filed Date: 12/14/23.

Accession Number: 20231214-5142.

Comment Date: 5 p.m. ET 1/4/24.

Docket Numbers: ER24-664-000.

Applicants: SR Canadaville, LLC.

Description: § 205(d) Rate Filing: Revised Market-Based Rate Tariff to be effective 12/15/2023.

Filed Date: 12/14/23.

Accession Number: 20231214-5146.

Comment Date: 5 p.m. ET 1/4/24.

Docket Numbers: ER24-665-000.

Applicants: SR McKellar Lessee, LLC.

Description: § 205(d) Rate Filing: Revised Market-Based Rate Tariff to be effective 12/15/2023.

Filed Date: 12/14/23.

Accession Number: 20231214-5152.

Comment Date: 5 p.m. ET 1/4/24.

Docket Numbers: ER24-666-000.

Applicants: SR McKellar, LLC.

Description: § 205(d) Rate Filing: Revised Market-Based Rate Tariff to be effective 12/15/2023.

Filed Date: 12/14/23.

Accession Number: 20231214-5155.

Comment Date: 5 p.m. ET 1/4/24.

Docket Numbers: ER24-667-000.

Applicants: SR Platte, LLC.

Description: § 205(d) Rate Filing: Revised Market-Based Rate Tariff to be effective 12/15/2023.

Filed Date: 12/14/23.

Accession Number: 20231214-5157.

Comment Date: 5 p.m. ET 1/4/24.

Docket Numbers: ER24-668-000.

Applicants: SR Rattlesnake, LLC.

Description: § 205(d) Rate Filing: Revised Market-Based Rate Tariff to be effective 12/15/2023.

Filed Date: 12/14/23.

Accession Number: 20231214-5162.

Comment Date: 5 p.m. ET 1/4/24.

Docket Numbers: ER24-669-000.

Applicants: SR Turkey Creek, LLC.

Description: § 205(d) Rate Filing: Revised Market-Based Rate Tariff to be effective 12/15/2023.

Filed Date: 12/14/23.

Accession Number: 20231214-5164.

Comment Date: 5 p.m. ET 1/4/24.

Docket Numbers: ER24-670-000.

Applicants: Duke Energy Progress, LLC.

Description: Tariff Amendment: DEP-INGENCO Notice of Cancellation of SA No. 288 to be effective 2/13/2024.

Filed Date: 12/14/23.

Accession Number: 20231214-5179.

Comment Date: 5 p.m. ET 1/4/24.

Docket Numbers: ER24-671-000.

Applicants: Helix Ravenswood, LLC.

Description: Compliance filing: Ravenswood Operation Notice of Succession Filing to be effective 11/7/2023.

Filed Date: 12/14/23.

Accession Number: 20231214-5182.

Comment Date: 5 p.m. ET 1/4/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 14, 2023.
Debbie-Anne A. Reese,
Deputy Secretary.

[FR Doc. 2023-27990 Filed 12-19-23; 8:45 am]

BILLING CODE 6717-01-P